DEPARTMENT OF ENERGY

Federal Energy Regulatory Commission

[Project No. 14438-000]

Resolute Marine Energy, Inc.; Notice of Preliminary Permit Application Accepted for Filing and Soliciting Comments, Motions To Intervene, and Competing Applications

On July 25, 2012, Resolute Marine Energy, Inc. (Resolute or Applicant) filed an application for a preliminary permit under section 4(f) of the Federal Power Act proposing to study the feasibility of the Yakutat Alaska Wave Energy Project No. 14438. Resolute supplemented its application on September 19, 2012. The proposed project would be located within a 25.26 square mile area within Alaska State submerged lands in the Gulf of Alaska, near the City and Borough of Yakutat, Alaska.

A preliminary permit does not authorize the permit holder to perform any land-disturbing activities or otherwise enter upon lands or waters owned by others without the owners' express permission.

The proposed project would consist of: (1) Between 7 and 15 Surge Wave Energy Converters for a maximum total installed capacity of 750 kilowatts; (2) a single transmission line to bring project power to shore; (3) shore-based power conditioning equipment, transformers, and voltage regulations facilities; and (5) appurtenant facilities. The project would have an estimated annual generation of 3,942 megawatthours.

Applicant Contact: Mr. P. William Staby, Resolute Marine Energy, Inc., 3 Post Office Square, 3rd floor, Boston, MA 02109; (917) 626-6790; wstaby@resolutemarine.com.

FERC Contact: Kenneth Hogan (202) 502-8434 or via email at: Kenneth.hogan@ferc.gov.

Deadline for filing comments, motions to intervene, and competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street NE., Washington, DC 20426.

More information about this project, including a copy of the application can be viewed or printed on the “eLibrary” link of Commission's Web site at http://www.ferc.gov/docs-filing/elibrary.asp. Enter the docket number (P-14438) in the docket number field to access the document. For assistance, contact FERC Online Support.

Dated: November 15, 2012.
Kimberly D. Bose,
Secretary.

[FR Doc. 2012-28465 Filed 11-23-12; 8:45 am]

BILLING CODE 6717-01-P